DEPARTMENT OF TRANSPORTATION

Federal Aviation Administration

14 CFR Part 39

[Docket No. FAA-2010-0852; Directorate Identifier 2010-NM-005-AD; Amendment 39-16594; AD 2011-03-10]

RIN 2120-AA64

Airworthiness Directives; Airbus Model A330-200 and -300 and A340-200 and -300 Series Airplanes

AGENCY: Federal Aviation Administration (FAA), Department of Transportation (DOT).

ACTION: Final rule.

SUMMARY: We are superseding an existing airworthiness directive (AD) that applies to the products listed above. This AD results from mandatory continuing airworthiness information (MCAI) originated by an aviation authority of another country to identify and correct an unsafe condition on an aviation product. The MCAI describes the unsafe condition as:

A debonding area was detected on the RH [right-hand] elevator of an A340 in-service aeroplane during a scheduled maintenance task inspection.

Investigation has revealed that this debonding may have been caused by water ingress and, if not detected and corrected, might compromise the structural integrity of the elevators [and could result in reduced controllability of the airplane].

* * * * *

We are issuing this AD to require actions to correct the unsafe condition on these products.

DATES: This AD becomes effective March 14, 2011.

The Director of the Federal Register approved the incorporation by reference of certain publications listed in this AD as of March 14, 2011.

On November 16, 2005 (70 FR 59263, October 12, 2005), the Director of the Federal Register approved the incorporation by reference of certain other publications listed in this AD.

ADDRESSES: You may examine the AD docket on the Internet at http://www.regulations.gov or in person at the U.S. Department of Transportation, Docket Operations, M-30, West Building Ground Floor, Room W12-140, 1200 New Jersey Avenue, SE., Washington, DC.

FOR FURTHER INFORMATION CONTACT: Vladimir Ulyanov, Aerospace Engineer, International Branch, ANM-116, Transport Airplane Directorate, FAA, 1601 Lind Avenue, SW., Renton, Washington 98057-3356; telephone (425) 227-1138; fax (425) 227-1149.

SUPPLEMENTARY INFORMATION:

Discussion

We issued a notice of proposed rulemaking (NPRM) to amend 14 CFR part 39 to include an AD that would apply to the specified products. That NPRM was published in the Federal Register on September 8, 2010 (75 FR 54536), and proposed to supersede AD 2005-20-32, Amendment 39-14329 (70 FR 59263, October 12, 2005). That NPRM proposed to correct an unsafe condition for the specified products. The MCAI states:

A debonding area was detected on the RH [right-hand] elevator of an A340 in-service aeroplane during a scheduled maintenance task inspection.

Investigation has revealed that this debonding may have been caused by water ingress and, if not detected and corrected, might compromise the structural integrity of the elevators [and could result in reduced controllability of the airplane].

DGAC [Direction Générale de l'Aviation Civile] France AD F-2004-118 R1 (EASA approval N. 2004-10125) required a one-time inspection of elevators skin panels installed on MSN up to 091, to detect potential liquid ingress and repair as necessary, in accordance with Airbus inspection service bulletins (ISB) A330-55-3032 and A340-55-4029.

Following the AD issuance, further in-service experience has shown that in order to ensure the structural integrity of all A330/A340 elevators skin panels with sandwich construction (excluding A340-500/-600), it is necessary to perform the same elevators panels inspection and to repair as necessary, but in a repetitive manner.

The aim of this AD, which supersedes DGAC France AD F-2004-118 R1, is to require this additional inspection program in order to maintain the structural integrity of the elevators.

The required actions include repetitive special detailed inspections and repetitive re-protection of the elevator assembly. The special detailed inspections consist of the following actions:

• Repetitive endoscopic inspections for damage (such as a scratch, disbonding, or a tear) of the inner skin of the upper and lower elevator panels on both sides of the airplane, and if any damage is found, contacting Airbus for instructions and doing the instructions.

• Repetitive tap tests for debonding in the inner side of the upper and lower elevator panels on both sides, and if any debonding is found, contacting Airbus for instructions and doing the instructions.

• Repetitive thermographic inspections for indications of trapped water in the upper and lower elevator panels on both sides of the airplane, and if any indications of trapped water are found, doing applicable corrective actions (including, but not limited to, repeating the thermographic inspection to determine the size of the damaged area, doing a general visual inspection to determine if there is an existing repair, contacting Airbus for instructions and doing the instructions, re-protecting the affected surfaces, and repairing holes).

• Repetitively re-protect the elevator assembly (including doing a general visual inspection to determine damage and repair if necessary, a general visual inspection to determine if the drainage holes are clean and not obstructed and cleaning the drainage holes if necessary, a general visual inspection to determine the status of the static discharges contour and sealing the static discharges contour if necessary, and installing front spar access hole covers).

You may obtain further information by examining the MCAI in the AD docket.

New Service Information

The NPRM referred to Airbus Service Bulletin A330-55-3032 and Airbus Service Bulletin A340-55-4029, both dated December 22, 2003, as appropriate sources of service information for certain actions. Airbus has revised this service information. Airbus has issued Mandatory Service Bulletins A330-55-3032, Revision 01 including Appendix 01, dated March 29, 2005; and A340-55-4029, Revision 01, dated March 29, 2005; which among minor changes, change the classification of these service bulletins from recommended to mandatory. We have revised this final rule to also refer to Revision 01 of these service bulletins as appropriate sources of service information for certain actions.

Comments

We gave the public the opportunity to participate in developing this AD. We considered the comment received.

Request for a New AD Instead of a Superseding AD

Delta Air Lines, Inc. (Delta) requested that we mandate a new AD instead of superseding AD 2005-20-32, to eliminate possible confusion for operators in complying with the requirements of the NPRM and the AD being superseded. Delta explained that AD 2005-20-32 applied to a specific range of elevator parts and serial numbers that required inspection, repair, and re-protection, as required by Airbus Service Bulletin A330-55-3032, dated December 22, 2003. Delta reasoned that paragraph (h) of AD 2005-20-32, states that installation of an affected elevator after the AD effective date, November 16, 2005, was not approved unless the subject elevator complied with paragraph (h) of AD 2005-20-32. Delta reasoned further that the NPRM applies to a larger population of elevators and has inspections, repairs (if required), and re-protection, as specified in Airbus Mandatory Service Bulletin A330-55-3039, dated August 7, 2009. Delta stated that the thresholds in the NPRM are based on previous inspections required by Airbus Service Bulletin A330-55-3032, dated December 22, 2003.

We assume that Delta intended to refer to paragraph (i) instead of (h) of AD 2005-20-32, which states that installation of an affected elevator after the AD effective date, November 16, 2005, is not approved unless the subject elevator complies with paragraph (h) of AD 2005-20-32. We disagree with mandating a new AD instead of this final rule, which supersedes AD 2005-20-32. Operators that comply with the new requirements of this final rule terminate the restated requirements of AD 2005-20-32. Restating the requirements of AD 2005-20-32 is necessary because some of the new required inspection thresholds in this final rule are calculated from the date the inspection was performed, as specified in AD 2005-20-32. We have not changed this final rule in this regard.

Request for Removal of Reporting Requirements

Delta requested that we remove the reporting requirements of paragraph (n) of the NPRM. Delta explained that requiring operators to report their findings (both positive and negative) to Airbus does not affect safety of flight, but instead puts operators at risk of non-compliance for failure to report findings within the required timeline, and is a duplication of records that is a burden to operators. Delta indicated that they maintain records of accomplishment of mandated work. Delta argued further, that removal of the reporting requirement would be consistent with the FAA's ruling per AD 2005-20-32, which notes:

“We require operators to submit information relevant to AD actions only when our analyses indicate that such information is needed to ensure safety or to document compliance. We cannot require operators to submit information to improve processes. We have not changed the AD in this regard.”

We disagree to remove the reporting requirements of this final rule. We mandate reporting to Airbus in support of collecting the inspection results, which are helpful to Airbus in developing a final fix to the problem, a potential change in the design of the affected part, or the manufacturing process. We have not changed this final rule in this regard.

Request for Reference to Paragraph (k)

Delta requested that we revise paragraph (o) to include a reference to paragraph (k) instead of paragraph (l) in the NPRM. Delta explained that the following sentence in paragraph (o) of the NPRM, which states:

“do not install any elevator identified in Table 1 of this AD on any airplane, unless the elevator has been inspected in accordance with paragraph (l) of this AD and all applicable corrective actions have been done.”

contains a typographical error and should include a reference to paragraph (k) for inspections and paragraph (l) for corrective actions.

We agree to include a reference to paragraph (k) instead of paragraph (l), in paragraph (o) of the final rule. We have revised the final rule accordingly.

Conclusion

We reviewed the available data, including the comment received, and determined that air safety and the public interest require adopting the AD with the changes described previously. We determined that these changes will not increase the economic burden on any operator or increase the scope of the AD.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow our FAA policies. Any such differences are highlighted in a Note within the AD.

Costs of Compliance

We estimate that this AD will affect about 56 products of U.S. registry.

The actions that are required by AD 2005-20-32 and retained in this AD take about 1 work-hour per product, at an average labor rate of $85 per work-hour. Based on these figures, the estimated cost of the currently required actions is $85 per product.

We estimate that it will take about 14 work-hours per product to comply with the new basic requirements of this AD. The average labor rate is $85 per work-hour. Based on these figures, we estimate the cost of this AD to the U.S. operators to be $66,640, or $1,190 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM, the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-14329 (70 FR 59263, October 12, 2005) and adding the following new AD:

2011-03-10 Airbus: Amendment 39-16594. Docket No. FAA-2010-0852; Directorate Identifier 2010-NM-005-AD.

Effective Date

(a) This airworthiness directive (AD) becomes effective March 14, 2011.

Affected ADs

(b) This AD supersedes AD 2005-20-32, Amendment 39-14329.

Applicability

(c) This AD applies to Airbus Model A330-201, -202, -203, -223, -243, -301, -302, -303, -321, -322, -323, -341, -342, and -343 airplanes, and A340-211, -212, -213, -311, -312, and -313 airplanes; certificated in any category; all manufacturer serial numbers, if equipped with any of the elevator part numbers (P/N) identified in Table 1 of this AD (“ZZ” indicates a number from 00 up to 99 inclusive).

Table 1—Elevator Part Numbers
For the left-hand elevator | For the right-hand elevator
P/N F55280000000ZZ | P/N F55280000001ZZ
P/N F55280000002ZZ | P/N F55280000003ZZ
P/N F55280000004ZZ | P/N F55280000005ZZ
P/N F55280000006ZZ | P/N F55280000007ZZ
P/N F55280000008ZZ | P/N F55280000009ZZ
P/N F55280000012ZZ | P/N F55280000013ZZ
P/N F55280002000ZZ | P/N F55280002001ZZ
P/N F55280005000ZZ | P/N F55280005001ZZ
P/N F55280005002ZZ | P/N F55280005003ZZ
P/N F55280005004ZZ | P/N F55280005005ZZ

Subject

(d) Air Transport Association (ATA) of America Code 55: Stabilizers.

Reason

(e) The mandatory continuing airworthiness information (MCAI) states:

A debonding area was detected on the RH [right-hand] elevator of an A340 in-service aeroplane during a scheduled maintenance task inspection.

Investigation has revealed that this debonding may have been caused by water ingress and, if not detected and corrected, might compromise the structural integrity of the elevators [and could result in reduced controllability of the airplane].

* * * * *

Compliance

(f) You are responsible for having the actions required by this AD performed within the compliance times specified, unless the actions have already been done.

Restatement of Requirements of AD 2005-20-32

Service Bulletin Exceptions for Airbus Service Bulletin A330-55-3032 and Airbus Service Bulletin A340-55-4029

(g) Where Airbus Service Bulletins A330-55-3032 and Airbus Service Bulletin A340-55-4029, both dated December 22, 2003; and Airbus Mandatory Service Bulletin A330-55-3032 and Airbus Mandatory Service Bulletin A340-55-4029, both Revision 1, both dated March 29, 2005; recommend contacting Airbus for appropriate action: Before further flight, repair the condition according to a method approved by the Manager, International Branch, ANM-116, Transport Airplane Directorate, FAA; the Direction Générale de l'Aviation Civile (or its delegated agent); or EASA (or its delegated agent).

(h) Although Airbus Service Bulletin A330-55-3032 and Airbus Service Bulletin A340-55-4029, both dated December 22, 2003; and Airbus Mandatory Service Bulletin A330-55-3032 and Airbus Mandatory Service Bulletin A340-55-4029, both Revision 1, both dated March 29, 2005; specify to submit certain information to the manufacturer, this AD does not include that requirement.

Determining Part Number, Serial Number

(i) For Model A330-201, -202, -203, -223, -243, -301, -321, -322, -323, -341, -342, and -343 airplanes; and Model A340-211, -212, -213, -311, -312, and -313 airplanes: At the later of the times specified in paragraphs (i)(1) and (i)(2) of this AD, perform an inspection to determine the part number and serial number of the left- and right-hand elevator assemblies. A review of airplane maintenance records is acceptable in lieu of this inspection if the part number and serial number of each elevator assembly can be conclusively determined from that review. If neither elevator assembly has a part number and serial number combination identified in Table 2 of this AD, no further action is required by this paragraph. If either elevator assembly has a part number and serial number combination identified in Table 2 of this AD, do paragraph (j) of this AD. Doing the actions in paragraph (k) of this AD terminates the requirements of paragraph (i) of this AD.

(1) Within 10 years after the date of the first flight of the airplane, or before the accumulation of 12,000 total flight cycles, whichever is first.

(2) Within 18 months after November 16, 2005 (the effective date of AD 2005-20-32).

Table 2—Affected Elevator Part Numbers and Serial Numbers in AD 2005-20-32
Part | Affected part Nos. | Affected serial Nos.
Left-hand elevator assembly | F55280000000, F55280000004 | CG1002 through CG1091 inclusive, CG1093, CG1094, CG2001.
Right-hand elevator assembly | F55280000001, F55280000005 | CG1002 through CG1094 inclusive, CG2001.

Inspections

(j) For Model A330-201, -202, -203, -223, -243, -301, -321, -322, -323, -341, -342, and -343 airplanes; and Model A340-211, -212, -213, -311, -312, and -313 airplanes: If the left- or right-hand elevator assembly has a part number and serial number combination identified in Table 2 of this AD, before further flight after accomplishing paragraph (i) of this AD, do the actions in paragraphs (j)(1), (j)(2), and (j)(3) of this AD, as applicable. Doing the actions in paragraph (k) of this AD terminates the requirements of paragraph (j) of this AD.

(1) Perform an endoscopic inspection to detect damage (such as a scratch, disbonding, or a tear), and a tap test and a thermographic inspection to detect signs of moisture penetration, to the upper and lower elevator panels on both sides of the airplane, in accordance with the Accomplishment Instructions of Airbus Service Bulletin A330-55-3032 (for Model A330-201, -202, -203, -223, -243, -301, -321, -322, -323, -341, -342, and -343 airplanes) or Airbus Service Bulletin A340-55-4029 (for Model A340-211, -212, -213, -311, -312, and -313 airplanes), both dated December 22, 2003, as applicable; or Airbus Mandatory Service Bulletin A330-55-3032 (for Model A330-201, -202, -203, -223, -243, -301, -321, -322, -323, -341, -342, and -343 airplanes) or Airbus Mandatory Service Bulletin A340-55-4029 (for Model A340-211, -212, -213, -311, -312, and -313 airplanes), both Revision 1, both dated March 29, 2005, as applicable; except as provided by paragraphs (g) and (h) of this AD.

(2) If any damage is found, before further flight, do all applicable corrective actions (including, but not limited to, repeating the thermographic inspection to determine the size of the damaged area, and performing a tap test around the areas where moisture is indicated), in accordance with the Accomplishment Instructions of Airbus Service Bulletin A330-55-3032 (for Model A330-201, -202, -203, -223, -243, -301, -321, -322, -323, -341, -342, and -343 airplanes) or Airbus Service Bulletin A340-55-4029 (for Model A340-211, -212, -213, -311, -312, and -313 airplanes), both dated December 22, 2003, as applicable; or Airbus Mandatory Service Bulletin A330-55-3032 (for Model A330-201, -202, -203, -223, -243, -301, -321, -322, -323, -341, -342, and -343 airplanes) or Airbus Mandatory Service Bulletin A340-55-4029 (for Model A340-211, -212, -213, -311, -312, and -313 airplanes), both Revision 1, both dated March 29, 2005, as applicable; except as provided by paragraphs (g) and (h) of this AD.

(3) Re-protect the elevator assembly (including performing a general visual inspection to determine if the drainage holes are clean, a general visual inspection to determine the condition of the sealant covering the static discharges contour, and applicable corrective actions), in accordance with the Accomplishment Instructions of Airbus Service Bulletin A330-55-3032 (for Model A330-201, -202, -203, -223, -243, -301, -321, -322, -323, -341, -342, and -343 airplanes) or Airbus Service Bulletin A340-55-4029 (for Model A340-211, -212, -213, -311, -312, and -313 airplanes), both dated December 22, 2003, as applicable; or Airbus Mandatory Service Bulletin A330-55-3032 (for Model A330-201, -202, -203, -223, -243, -301, -321, -322, -323, -341, -342, and -343 airplanes) or Airbus Mandatory Service Bulletin A340-55-4029 (for Model A340-211, -212, -213, -311, -312, and -313 airplanes), both Revision 1, both dated March 29, 2005, as applicable; except as provided by paragraphs (g) and (h) of this AD.

Note 1: For the purposes of this AD, a general visual inspection is: “A visual examination of an interior or exterior area, installation, or assembly to detect obvious damage, failure, or irregularity. This level of inspection is made from within touching distance unless otherwise specified. A mirror may be necessary to ensure visual access to all surfaces in the inspection area. This level of inspection is made under normally available lighting conditions such as daylight, hangar lighting, flashlight, or droplight and may require removal or opening of access panels or doors. Stands, ladders, or platforms may be required to gain proximity to the area being checked.”

New Requirements of This AD

Repetitive Inspection

(k) Within the applicable time in paragraph (k)(1) or (k)(2) of this AD, do a special detailed inspection for discrepancies (scratches, debonding, tears, and indications of trapped water), on the elevator upper and lower skin panels, in accordance with the Accomplishment Instructions of Airbus Mandatory Service Bulletin A330-55-3039 (for Model A330-201, -202, -203, -223, -243, -301, -302, -303, -321, -322, -323, -341, -342, and -343 airplanes) or A340-55-4035 (for Model A340-211, -212, -213, -311, -312, and -313 airplanes), both dated August 7, 2009. Repeat the inspections thereafter at intervals not to exceed 72 months from the date of the elevator's first flight after the last inspection. Doing the special detailed inspection specified in this paragraph terminates the requirements of paragraphs (i) and (j) of this AD.

(1) For elevators identified in Table 1 of this AD that have not been inspected in accordance with Airbus Service Bulletin A330-55-3032 (for Model A330-201, -202, -203, -223, -243, -301, -302, -303, -321, -322, -323, -341, -342, and -343 airplanes) or Airbus Service Bulletin A340-55-4029 (for Model A340-211, -212, -213, -311, -312, and -313 airplanes) both dated December 22, 2003; and Airbus Mandatory Service Bulletin A330-55-3032 (for Model A330-201, -202, -203, -223, -243, -301, -302, -303, -321, -322, -323, -341, -342, and -343 airplanes) or Airbus Mandatory Service Bulletin A340-55-4029 (for Model A340-211, -212, -213, -311, -312, and -313 airplanes), both Revision 1, both dated March 29, 2005: Within 144 months since the date of the elevator's first flight on any airplane, or within 24 months after the effective date of this AD, whichever occurs later.

(2) For elevators identified in Table 1 of this AD that have been inspected in accordance with Airbus Service Bulletin A330-55-3032 (for Model A330-201, -202, -203, -223, -243, -301, -302, -303, -321, -322, -323, -341, -342, and -343 airplanes) or Airbus Service Bulletin A340-55-4029 (for Model A340-211, -212, -213, -311, -312, and -313 airplanes) both dated December 22, 2003; or Airbus Mandatory Service Bulletin A330-55-3032 (for Model A330-201, -202, -203, -223, -243, -301, -302, -303, -321, -322, -323, -341, -342, and -343 airplanes) or Airbus Mandatory Service Bulletin A340-55-4029 (for Model A340-211, -212, -213, -311, -312, and -313 airplanes), both Revision 1, both dated March 29, 2005: Within 72 months since the date of the elevator's first flight on any airplane after accomplishing Airbus Service Bulletin A330-55-3032 (for Model A330-201, -202, -203, -223, -243, -301, -302, -303, -321, -322, -323, -341, -342, and -343 airplanes) or Airbus Service Bulletin A340-55-4029, (for Model A340-211, -212, -213, -311, -312, and -313 airplanes) both dated December 22, 2003; or Airbus Mandatory Service Bulletin A330-55-3032 (for Model A330-201, -202, -203, -223, -243, -301, -302, -303, -321, -322, -323, -341, -342, and -343 airplanes) or Airbus Mandatory Service Bulletin A340-55-4029, (for Model A340-211, -212, -213, -311, -312, and -313 airplanes) both Revision 1, both dated March 29, 2005; as applicable; or within 24 months after the effective date of this AD, whichever occurs later.

Corrective Action

(l) If any discrepancy is found during any inspection required by paragraph (k) of this AD, before further flight, do all applicable corrective actions (including applicable inspections and repair), in accordance with the Accomplishment Instructions of Airbus Mandatory Service Bulletin A330-55-3039 (for Model A330-201, -202, -203, -223, -243, -301, -302, -303, -321, -322, -323, -341, -342, and -343 airplanes) or A340-55-4035 (for Model A340-211, -212, -213, -311, -312, and -313 airplanes), both dated August 7, 2009; or contact Airbus for instructions and follow their corrective actions.

Re-protection

(m) For elevators on which any action required by paragraph (k) or (l) of this AD is done: Before the elevator's next flight, do a re-protection (including all applicable inspections and corrective actions), in accordance with the Accomplishment Instructions of Airbus Mandatory Service Bulletin A330-55-3039 (for Model A330-201, -202, -203, -223, -243, -301, -302, -303, -321, -322, -323, -341, -342, and -343 airplanes); or A340-55-4035 (for Model A340-211, -212, -213, -311, -312, and -313 airplanes), both dated August 7, 2009.

Reporting

(n) Submit a report of the findings (both positive and negative) of the inspection required by paragraph (k) of this AD to Airbus, as specified in Appendix 1 of Airbus Mandatory Service Bulletin A330-55-3039, dated August 7, 2009; or Airbus Mandatory Service Bulletin A340-55-4035, dated August 7, 2009; as applicable; at the applicable time specified in paragraph (n)(1) or (n)(2) of this AD. The report must include the information identified in Appendix 1 of Airbus Mandatory Service Bulletin A330-55-3039, dated August 7, 2009; or Airbus Mandatory Service Bulletin A340-55-4035, dated August 7, 2009; as applicable.

(1) If the inspection was done on or after the effective date of this AD: Submit the report within 30 days after the inspection.

(2) If the inspection was done before the effective date of this AD: Submit the report within 30 days after the effective date of this AD.

Parts Installation

(o) As of the effective date of this AD, do not install any elevator identified in Table 1 of this AD on any airplane, unless the elevator has been inspected in accordance with paragraph (k) of this AD and all applicable corrective actions have been done.

FAA AD Differences

Note 2: This AD differs from the MCAI and/or service information as follows: No differences.

Other FAA AD Provisions

(p) The following provisions also apply to this AD:

(1) Alternative Methods of Compliance (AMOCs): The Manager, International Branch, ANM-116, Transport Airplane Directorate, FAA, has the authority to approve AMOCs for this AD, if requested using the procedures found in 14 CFR 39.19. Send information to ATTN: Vladimir Ulyanov, Aerospace Engineer, International Branch, ANM-116, Transport Airplane Directorate, FAA, 1601 Lind Avenue, SW., Renton, Washington 98057-3356; telephone (425) 227-1138; fax (425) 227-1149. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave., SW., Washington, DC 20591, Attn: Information Collection Clearance Officer, AES-200.

Related Information

(q) Refer to MCAI European Aviation Safety Agency Airworthiness Directive 2009-0255, dated December 1, 2009, and the service bulletins listed in Table 3 of this AD, for related information.

Table 3—Service Bulletins
Document | Revision | Date
Airbus Service Bulletin A330-55-3032 | Original | December 22, 2003.
Airbus Mandatory Service Bulletin A330-55-3032 | 1 | March 29, 2005.
Airbus Service Bulletin A340-55-4029 | Original | December 22, 2003.
Airbus Mandatory Service Bulletin A340-55-4029 | 1 | March 29, 2005.
Airbus Mandatory Service Bulletin A330-55-3039 | Original | August 7, 2009.
Airbus Mandatory Service Bulletin A340-55-4035 | Original | August 7, 2009.

Material Incorporated by Reference

(r) You must use the service information contained in Table 4 of this AD, as applicable, to do the actions required by this AD, unless the AD specifies otherwise.

Table 4—All Material Incorporated by Reference
Document | Revision | Date
Airbus Service Bulletin A330-55-3032, excluding Appendix 01 | Original | December 22, 2003.
Airbus Mandatory Service Bulletin A330-55-3032, excluding Appendix 01 | 1 | March 29, 2005.
Airbus Service Bulletin A340-55-4029, excluding Appendix 01 | Original | December 22, 2003.
Airbus Mandatory Service Bulletin A340-55-4029, excluding Appendix 01 | 1 | March 29, 2005.
Airbus Mandatory Service Bulletin A330-55-3039, including Appendix 01 | Original | August 7, 2009.
Airbus Mandatory Service Bulletin A340-55-4035, including Appendix 01 | Original | August 7, 2009.

(1) The Director of the Federal Register approved the incorporation by reference of the service information contained in Table 5 of this AD under 5 U.S.C. 552(a) and 1 CFR part 51.

Table 5—New Material Incorporated by Reference
Document | Revision | Date
Airbus Mandatory Service Bulletin A330-55-3032, excluding Appendix 01 | 1 | March 29, 2005.
Airbus Mandatory Service Bulletin A340-55-4029, excluding Appendix 01 | 1 | March 29, 2005.
Airbus Mandatory Service Bulletin A330-55-3039, including Appendix 1 | Original | August 7, 2009.
Airbus Mandatory Service Bulletin A340-55-4035, including Appendix 1 | Original | August 7, 2009.

(2) The Director of the Federal Register previously approved the incorporation by reference of Airbus Service Bulletin A330-55-3032, excluding Appendix 01, dated December 22, 2003; and Airbus Service Bulletin A340-55-4029, excluding Appendix 01, dated December 22, 2003; on November 16, 2005 (70 FR 59263, October 12, 2005).

(3) For service information identified in this AD, contact Airbus SAS—Airworthiness Office—EAL, 1 Rond Point Maurice Bellonte, 31707 Blagnac Cedex, France; telephone +33 5 61 93 36 96; fax +33 5 61 93 45 80; e-mail airworthiness.A330-A340@airbus.com; Internet http://www.airbus.com.

(4) You may review copies of the service information at the FAA, Transport Airplane Directorate, 1601 Lind Avenue, SW., Renton, Washington. For information on the availability of this material at the FAA, call 425-227-1221.

(5) You may also review copies of the service information that is incorporated by reference at the National Archives and Records Administration (NARA). For information on the availability of this material at NARA, call 202-741-6030, or go to: http://www.archives.gov/federal_register/code_of_federal_regulations/ibr_locations.html.

Issued in Renton, Washington, on January 26, 2011.
Ali Bahrami,
Manager, Transport Airplane Directorate, Aircraft Certification Service.

[FR Doc. 2011-2430 Filed 2-4-11; 8:45 am]

BILLING CODE 4910-13-P